DEPARTMENT OF TRANSPORTATION

Federal Aviation Administration

14 CFR Part 183

[Docket No. FAA-2011-1149]

Clarification of Policy Regarding Designated Aircraft Dispatcher Examiners

AGENCY: Federal Aviation Administration (FAA), Department of Transportation (DOT).

ACTION: Notice of availability; request for comment.

SUMMARY: This document announces the availability of a revised section of FAA Order 8900.1, regarding the qualification, authority, and limitations of Designated Aircraft Dispatcher Examiners (DADEs). This section provides guidance to FAA employees on the responsibilities, qualifications, and oversight of DADEs under 14 CFR part 183. Under this proposed revision, the FAA is clarifying its policy regarding the qualifications, privileges, and limitations of these designees, in addition to establishing guidelines for DADEs when testing applicants for an Aircraft Dispatcher Certificate. Upon review of the comments and any necessary revision, this Order would cancel and replace FAA Order 8900.1, Volume 5, Chapter 5, Section 10, and Volume 13, Chapter 3, Sections 1-4, issued September 13, 2007.

DATES: Written comments must be received on or before December 8, 2011.

ADDRESSES: Send comments identified by docket number FAA-2011-1149 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at (202) 493-2251.

Privacy: The FAA will post all comments it receives, without change, to http://www.regulations.gov, including any personal information the commenter provides. Using the search function of the docket web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Theodora Kessaris, Technical Programs Branch, Air Transportation Division, Flight Standards Service, Federal Aviation Administration, 800 Independence Avenue SW., Washington, DC 20591; telephone: (202) 267-8166; facsimile: (202) 267-5229; email: Theodora.kessaris@faa.gov.

Background

FAA Order 8900.1, Flight Standards Information Management System, was issued on September 13, 2007. This order consolidated and replaced FAA Orders 8300.1, 8400.1, and 8700.1, the FAA's guidance to inspectors. Included in FAA Order 8900.1 is guidance regarding FAA oversight of various designees authorized under 14 CFR part 183. Designees are private persons that the FAA Administrator has designated to act as his representative in examining, inspecting and testing persons and aircraft for the purpose of issuing airman, operating and aircraft certificates. Included in the list of persons the Administrator may designate to perform these functions on his behalf are Designated Aircraft Dispatch Examiners (DADEs). Pursuant to 14 CFR 183.25(f), these designees may accept applications for and conduct written and practical tests for issuing aircraft dispatcher certificates under part 65. In some instances, DADEs may be authorized to issue temporary aircraft dispatcher certificates to qualified applicants.

The provisions in 14 CFR part 183 do not establish qualification requirements for DADEs. In October 2008, the FAA published guidance for inspectors that addressed DADE qualifications and the FAA's oversight of DADEs. This guidance was not published for public comment. This proposed revision of the Order would clarify the 2008 guidance and include the following significant information:

• A DADE will not test outside of the geographic limits of the Certificate Holding District Office (CHDO) without prior permission from the CHDO.

This limitation is necessary to ensure proper oversight and monitoring of the administration of these tests by the appropriate FAA district office.

• A DADE will not be an employee of a 14 CFR part 65 course operator.

This limitation is necessary due to the potential for a conflict-of-interest which could occur based on the requirement under § 65.63(c)(1) for a course operator to maintain an 80% pass rate of its graduates, on the first testing attempt, as a condition for renewal of a course. The FAA is concerned that a DADE employed by such a course operator might not be objective when administering a test to an applicant who has graduated from the DADE's employer or affiliate.

• Time spent testing an applicant should be no more than 6 hours.

This time period is based on the national average which was verified by Aviation Safety Inspectors with oversight responsibility of DADEs. This time period takes into account the extensive requirements of the Aircraft Dispatcher Practical Test Standards (PTS), and the ability of a candidate for an aircraft dispatcher certificate to demonstrate his or her ability to manage a typical aircraft dispatcher's workload by completing each task in a timely manner.

• A DADE will not test more than one applicant for an aircraft dispatcher certificate at a time.

This limitation is intended to establish consistency with the FAA's already established policy for initial pilot certification.

• A DADE will not administer more than two Aircraft Dispatcher Practical Tests in a single day.

This limitation takes in to account the testing of a single applicant at a time, and an overall test time of approximately 6 hours per applicant, not including the time it takes to complete the application paper work. This policy is also consistent with that which is applicable to pilot testing.

While the FAA generally does not request comment on internal orders, the agency has established a docket for public comments regarding this guidance for inspectors in recognition of the interest of current DADEs and applicants for an aircraft dispatcher certificate under part 65. The agency will consider all comments received by December 8, 2011. Comments received after that date may be considered if consideration will not delay agency action on the review. A copy of the proposed order is available for review in the assigned docket for the Order at http://www.regulations.gov.

Issued in Washington, DC, on October 26, 2011.
John M. Allen,
Director, Flight Standards Service.

[FR Doc. 2011-28516 Filed 11-7-11; 8:45 am]

BILLING CODE 4910-13-P